DEPARTMENT OF LABOR

Office of the Secretary

Agency Information Collection Activities; Submission for OMB Review; Comment Request; Energy Employees Occupational Illness Compensation Program Act Forms

ACTION: Notice.

SUMMARY: The Department of Labor (DOL) is submitting the Office of Workers' Compensation Programs (OWCP) sponsored information collection request (ICR) revision titled, “Energy Employees Occupational Illness Compensation Program Act Forms,” to the Office of Management and Budget (OMB) for review and approval for use in accordance with the Paperwork Reduction Act (PRA) of 1995 (44 U.S.C. 3501 et seq.).

DATES: Submit comments on or before November 29, 2013.

ADDRESSES: A copy of this ICR with applicable supporting documentation; including a description of the likely respondents, proposed frequency of response, and estimated total burden may be obtained free of charge from the RegInfo.gov Web site at http://www.reginfo.gov/public/do/PRAViewICR?ref_nbr=201304-1240-001 (this link will only become active on the day following publication of this notice) or by contacting Michel Smyth by telephone at 202-693-4129 (this is not a toll-free number) or sending an email to DOL_PRA_PUBLIC@dol.gov.

Submit comments about this request to the Office of Information and Regulatory Affairs, Attn: OMB Desk Officer for DOL-OWCP, Office of Management and Budget, Room 10235, 725 17th Street NW., Washington, DC 20503, Fax: 202-395-6881 (this is not a toll-free number), email: OIRA_submission@omb.eop.gov. Commenters are encouraged, but not required, to send a courtesy copy of any comments to the U.S. Department of Labor-OASAM, Office of the Chief Information Officer, Attn: Information Management Program, Room N1301, 200 Constitution Avenue NW, Washington, DC 20210, email: DOL_PRA_PUBLIC@dol.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: The OWCP is the primary agency responsible for administering the Energy Employees Occupational Illness Compensation Program Act of 2000, as amended (EEOICPA) (42 U.S.C. 7384 et seq.). The EEOICPA provides for timely payment of compensation to covered employees who sustained either occupational or otherwise covered illnesses incurred in the performance of duty for the Department of Energy (DOE) and certain of its contractors and subcontractors and, where applicable, survivors of such employees. The EEOICPA sets forth eligibility criteria for claimants for compensation under EEOICPA parts B and E and outlines the various elements of compensation payable from the Energy Employees Occupational Illness Compensation Fund.

Regulations 20 CFR 30.100, -.101, -.102, -.103, -.111, -.112, -.113, -.114, -.206, -.207, -.212, -.213, -.214, -.215, -.221, -.222, -.226, -.231, -.232, -.415, -.416, -.417, -.505, -.620, -.806, -.905, and -.907 implementing the EEOICPA contain information collection requirements covered by this ICR. The OWCP also uses this ICR to obtain PRA authorization to implement the information collection requirement found at 42 U.S.C. 7385s-11.

The OWCP uses forms covered by this ICR to determine a claimant's eligibility for EEOICPA compensation and responses are required to obtain or retain benefits. The information collections in this ICR collect demographic, factual, and medical information needed to determine entitlement to EEOICPA benefits. Before the OWCP can pay benefits, the case file must contain medical and employment evidence showing the claimant's eligibility. The various collections covered by this ICR and the purpose of each are listed below:

Form EE-1—A living current or former employee completes the form to file a claim under parts B and/or E. The form requests information about the illness or illnesses being claimed and information about tort suits, settlements, or awards in litigation; State workers' compensation benefits; and fraud convictions that affect entitlement. This form is also available in Spanish. (20 CFR 30.100, -.103, -.505, and -.620.)

Form EE-2—The survivor of a deceased employee uses the form to file a claim under parts B and/or E. The form requests information regarding both the survivor and the deceased employee. The form also requests information about illnesses, tort suits, settlements, or awards in litigation; State workers' compensation benefits; and fraud convictions that affect entitlement. This form is also available in Spanish. (20 CFR 30.101, -.103, -.505, and -.620.)

Form EE-3—The form gathers information about the employee's work history. This form is also available in Spanish. (20 CFR 30.103, -.111, -.113, -.114, -.206, -.212, -.214, -.221, and -.231.)

Form EE-4—The employee or survivor uses the form to support the claimed employment history by affidavit. This form is also available in Spanish. (20 CFR 30.103, -.111, -.113, -.114, -.206, -.212, -.214, -.221, and -.231.)

Form EE-5A—A claimant must provide supplemental employment evidence to substantiate periods of unverified employment. There is no standard form or format for the submission of this information. For purposes of identification only, this requirement has been designated Form EE-5A. (20 CFR 30.112.)

Form EE-5B—A current or former DOE contractor provides information to substantiate periods of unverified employment. There is no standard form or format for the submission of the information. For purposes of identification only, this requirement has been designated Form EE-5B. (20 CFR 30.106.)

Form EE-7—The OWCP uses this form to inform an employee, survivor, or physician of the medical evidence needed to establish a diagnosis of an occupational illness under part B or a covered illness under part E. This form is also available in Spanish. (20 CFR 30.103, -.207, -.215, -.222, -.232(a) and (b), -.415, -.416, and -.417.)

Form EE-7A—A claimant is required to provide information about when an injury, illness, or disability is sustained because of an occupational illness under part B or a covered illness under part E. There is no standard form or format for the submission of this medical information. For purposes of identification only, this requirement has been designated Form EE-7A. (20 CFR 30.207, -.215, -.222, -.226, and -.232(c).)

Form EE-8—The OWCP sends this letter with enclosure EN-8 to a claimant to obtain information about an employee's smoking history when lung cancer due to radiation is claimed. Department of Health and Human Services (HHS) guidelines require the OWCP to ask for information regarding the employee's smoking history before the OWCP can determine the probability of causation for radiogenic lung cancer. (20 CFR 30.213.)

Form EE-9—The OWCP sends this letter with enclosure EN-9 to a claimant to obtain information concerning the race or ethnicity of the employee when radiogenic skin cancer is claimed. HHS guidelines require the OWCP to ask for this particular information regarding the employee's race/ethnicity before the OWCP can determine the probability of causation for radiogenic skin cancer. (20 CFR 30.213.)

Form EE-10—A covered part E employee who has received an award for wage-loss and/or impairment due to a covered illness uses this form to provide information needed to support a claim for an additional award for a subsequent calendar year of wage-loss and/or any additional impairment. (20 CFR 30.102, -.103, and -.505.)

Form EE-11A—The OWCP sends this letter about impairment benefits under part E with enclosure EN-11A to a claimant to obtain medical evidence needed to support an initial award for permanent impairment due to an accepted covered illness. (20 CFR 30.905 and -.907.)

Form EE-11B—The OWCP sends this letter with enclosure EE-11B to a part E claimant to obtain the factual and medical evidence necessary to support an initial award for wage-loss benefits due to an accepted covered illness. (20 CFR 30.806.)

Form EE-12—The OWCP sends this letter with enclosure EN-12 to a covered part B or E employee receiving medical benefits to collect updated information about settlements or awards in litigation and State workers' compensation benefits that affect continuing entitlement. (20 CFR 30.100 and -.505.)

Form EE-13—The OWCP sends this letter with enclosure EN-13 to a State workers' compensation authority to identify covered part E employees receiving medical benefits who have also been awarded State workers' compensation for their covered illnesses. (42 USC 7385s-11.)

Form EE-16—The OWCP sends this letter with enclosure EN-16 to a claimant to verify/obtain updated information about tort suits, settlements, or awards in litigation; State workers' compensation benefits; and fraud convictions that affect entitlement immediately prior to issuance of a recommended decision on the claim. (20 CFR 30.505 and -.620.)

Form EE-20—The OWCP sends this letter with enclosure EN-20 to a claimant to obtain financial information necessary to pay approved claims under part B or E. (20 CFR 30.505 and -.620.)

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

The DOL obtains OMB approval for this information collection under Control Number 1240-0002. This ICR has been classified as a revision, because—in accordance with Department of the Treasury guidance—Form EE-20 has been changed to delete the option to request payment by paper check. The current approval is scheduled to expire on October 31, 2013; however, it should be noted that existing information collection requirements submitted to the OMB receive a month-to-month extension while they undergo review. New information collection requirements would only take effect upon OMB approval. For additional substantive information about this ICR, see the related notice published in the Federal Register on July 5, 2013 (78 FR 40513).

Interested parties are encouraged to send comments to the OMB, Office of Information and Regulatory Affairs at the address shown in the ADDRESSES section within 30 days of publication of this notice in the Federal Register. In order to help ensure appropriate consideration, comments should mention OMB Control Number 1240-0002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Energy Employees Occupational Illness Compensation Program Act Forms.

OMB Control Number: 1240-0002.

Affected Public: Individuals or Households; State, Local, and Tribal Governments; and Private Sector—businesses or other for-profits.

Total Estimated Number of Respondents: 65,013.

Total Estimated Number of Responses: 66,020.

Total Estimated Annual Burden Hours: 23,190.

Total Estimated Annual Other Costs Burden: $28,089.

Dated: October 23, 2013.
Michel Smyth,
Departmental Clearance Officer.

[FR Doc. 2013-25392 Filed 10-28-13; 8:45 am]

BILLING CODE 4510-CR-P